NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research—Materials Research Science and Engineering Center (MRSEC) at University of Wisconsin (#1203) (Virtual Site Visit).

Date and Time: April 4, 2025; 9:30 a.m.-4:15 p.m.

Place: National Science Foundation, 2415 Eisenhower Ave, Alexandria VA, 22314 (virtual).

To virtually attend the open sessions of the meeting, please send your request for the virtual meeting link to the following email: cfinta@nsf.gov.

Type of Meeting: Part-Open.

Contact Person: Dr. Serdar Ogut, Program Director, National Science Foundation, 2415 Eisenhower Ave, Alexandria VA 22314; Telephone: 703-292-4429.

Purpose of Meeting: NSF site visit to conduct a review during year 2 of the award period as stipulated in the cooperative agreement.

Agenda: To conduct an in depth evaluation of performance, to assess progress towards goals, and to provide recommendations.

Friday, April 4, 2025

9:30 a.m.-10 a.m.—Executive Sessions (Closed)

10 a.m.-1:05 p.m.—MRSEC Presentations (Open)

1:05 p.m.-1:50 p.m.—Working Lunch (Closed)

1:50 p.m.-3:05 p.m.—Poster Session (Open)

3:05 p.m.-3:50 p.m.—Executive Sessions (Closed)

3:50 p.m.-4:15 p.m.—Debriefing (Open)

Reason for Closing: The program being reviewed includes information of a proprietary or confidential nature, including technical information; financial data, such as salaries, and personal information concerning individuals associated with the program. These matters are exempt under 5 U.S.C. 552b(c), (4) and (6) of the Government in the Sunshine Act.

Dated: March 14, 2025.
Crystal Robinson,
Committee Management Officer.

[FR Doc. 2025-04535 Filed 3-18-25; 8:45 am]

BILLING CODE 7555-01-P